DEPARTMENT OF HEALTH AND HUMAN SERVICES

Centers for Disease Control and Prevention

[Program Announcement 00137]

HIV/AIDS Prevention Program Development and Technical Assistance Collaboration for Faith Communities in Countries Targeted by the Leadership and Investment in Fighting the Epidemic (LIFE) Initiative; Notice of Availability of Funds

A. Purpose

The Centers for Disease Control and Prevention (CDC) announces the availability of fiscal year (FY) 2000 funds for a cooperative agreement program for HIV/AIDS Prevention Program Development and Technical Assistance Collaboration with Countries Targeted by the LIFE (Leadership and Investment in Fighting an Epidemic) Initiative.

In July 1999, the Administration announced the LIFE initiative to address the global AIDS pandemic. The LIFE initiative, an effort to expand and intensify the global response to the growing AIDS pandemic and its serious impact, is part of the United States (U.S.) Government's participation in the International Partnership Against HIV/AIDS in Africa (IPAA). A central feature of the LIFE initiative is a $100 million increase in U.S. support for sub-Saharan African countries and India, which are working to prevent the further spread of HIV and to care for those affected by this devastating disease. This additional funding is a critical step by the U.S. Government in recognizing the impact that AIDS continues to have on individuals, families, communities, and nations and responding to the imperative to do more. The Department of Health and Human Services (HHS), through its agency the Centers for Disease Control and Prevention (CDC) is administering $35 million of the $100 million allocated to the LIFE initiative by Congress.

The purpose of this program is to support HIV/AIDS prevention program development and technical assistance for faith communities in countries designated by the U.S. Congress under the LIFE Initiative. At present, those countries are Botswana, Cote D'Ivoire, Kenya, South Africa, Uganda, Rwanda, Zimbabwe, Ethiopia, Mozambique, Malawi, Tanzania, Nigeria, Senegal, Zambia and India. The countries targeted represent those with the most severe epidemic and the highest number of new infections. They also represent countries where the potential for impact is greatest and where U.S. government agencies are already active.

The goals of the program are to address and support three program elements of the LIFE initiative: (1) Primary Prevention, (2) Capacity and Infrastructure Development, and (3) Community and Home-Based Care and Treatment. This program calls for the delivery of HIV/AIDS prevention programs development, and technical assistance to the LIFE countries through a variety of recipient activities. The result will be enhancement of the skills of faith leaders from LIFE country national AIDS programs in strategic planning, implementation, evaluation, and communication relating to HIV/AIDS prevention, capacity building, and care programs.

B. Eligible Applicants

Assistance will be provided only to a U.S. national or regional minority organization (NRMO). Eligible applicants must meet these criteria:

1. Have been granted tax-exempt status under Section 501 (c)(3), evidenced by an Internal Revenue Service (IRS) determination letter.

2. Have a minimum of one year of documented experience in operating and centrally administering a coordinated program to integrate HIV prevention education and services into faith communities.

Note: Public Law 104-65 states that an organization described in section 501(c)(4) of the Internal Revenue Code of 1986 that engages in lobbying activities is not eligible to receive Federal funds constituting an award, grant, cooperative agreement, contract, loan or any other form.

C. Availability of Funds

Approximately $500,000 is available in FY 2000 to support Phase I and Phase II of this award. It is expected that the award will begin on or about September 30, 2000 and will be made for a 12-month budget period within a project period of up to 3 years. Funding estimates may change.

Continuation awards within an approved project period will be made on the basis of satisfactory progress as evidenced by required reports and the availability of funds.

D. Program Requirements

In conducting activities to achieve the purpose of this program, the recipient will be responsible for the activities under 1. Recipient Activities, and CDC will be responsible for the activities listed under 2. CDC Activities. It is anticipated that in the first year of the project, the recipient will perform the activities listed below in Phase I in at least three of the LIFE countries listed in Section A “Purpose”. The recipient may target more than, but not less than three LIFE countries.

1. Recipient Activities

Phase I

a. Provide technical assistance to faith community leaders in LIFE countries to explore the benefits, challenges, and rewards of embracing the HIV/AIDS epidemic as an issue within their respective communities.

b. Provide technical assistance to help these faith leaders in LIFE countries develop needs assessments to evaluate opportunities for and barriers to adopting HIV/AIDS prevention as an issue within their communities.

c. Provide technical assistance to help these faith leaders assess resources and linkages available to serve the needs identified in the needs assessments. Such resources and linkages may include materials, peer-to-peer training opportunities and/or technical assistance. These training and technical assistance opportunities may include placements that bring faith leaders from LIFE countries to U.S. churches identified to have model programs, as well as opportunities to bring faith leaders from LIFE countries to the U.S. for conferences, meetings, partnership development, and/or developmental experiences identified as having relevance to faith-based HIV prevention and care issues.

d. Provide technical assistance to faith leaders from LIFE countries to develop strategic plans which outline priorities, projects, and supporting capital and human resources as identified in the faith leaders' community mobilization needs assessments. This activity should include facilitating the identification of any gaps in available resources and linkages, work requirements to adapt existing resources to be effective and relevant, and any new resources needed.

e. Collaborate with faith leaders in LIFE countries in the selection of strategic plan activities to be performed in Phase II of this cooperative agreement.

f. In collaboration with other partners of the IPAA, the recipient organization will develop a monitoring and evaluation plan to document, monitor, and record process and input/output indicators of successful activities under this cooperative agreement that are consistent with CDC plans for the global monitoring and evaluation framework supporting the LIFE Initiative, and include such evaluation information in the required annual progress reports.

Phase II

a. Provide technical assistance to facilitate and coordinate activities selected from the strategic plans.

b. In collaboration with other partners of the IPAA, the recipient organization will develop a monitoring and evaluation plan to document, monitor, and record process and input/output indicators of successful activities under this cooperative agreement that are consistent with CDC plans for the global monitoring and evaluation framework supporting the LIFE Initiative, and include such evaluation information in the required annual progress reports.

2. CDC Activities

a. Provide technical assistance and expertise toward development of faith leaders' needs assessments and strategic plans.

b. Assess progress of recipient activities during Phase I and II of the program, and provide technical assistance where appropriate.

c. Provide technical assistance in determining recipient activities for Phase II of this cooperative agreement.

E. Application Content

Use the information in the Program Requirements, Other Requirements, and Evaluation Criteria sections to develop the application content. Your application will be evaluated on the criteria listed, so it is important to follow them in laying out your program plan. The narrative should be no more than 20 double-spaced pages, printed on one side, with one inch margins, and unreduced font. Pages should be numbered and a complete index to the application and its appendixes must be included. Begin each separate section on a new page. The original and each copy of the application set must be submitted unstapled and unbound. The following format should be used when developing your narrative.

Format

a. Abstract

b. Assessment of Need and Justification for the Program

c. Program plan and narrative

d. Organizational capability

e. Staffing Plan

f. Management and Evaluation of Program

g. Budget

F. Submission and Deadline

Submit the original and two copies of PHS 5161-1 (OMB Number 0937-0189). Forms are available at the following Internet address: http://www.cdc.gov/od/pgo/forminfo.htm. Forms are in the application kit. On or before August 21, 2000, submit the application to the Grants Management Specialist identified in the “Where to Obtain Additional Information” section of this announcement.

Deadline: Applications shall be considered as meeting the deadline if they are either:

(a) Received on or before the deadline date; or

(b) Sent on or before the deadline date and received in time for submission to the independent review group. (Applicants must request a legibly dated U.S. Postal Service postmark or obtain a legibly dated receipt from a commercial carrier or U.S. Postal Service. Private metered postmarks shall not be acceptable as proof of timely mailing.)

Late Applications: Applications which do not meet the criteria in (a) or (b) above are considered late applicat-ions, will not be considered, and will be returned to the applicant.

G. Evaluation Criteria

Each application will be evaluated individually against the following criteria by an independent review group appointed by CDC.

1. Assessment of Need and Justification (20 points)

Extent to which the applicant demonstrates understanding of the requirements, problems, objectives, complexities, and interactions required of the cooperative agreement.

2. Program Plan and Narrative (20 points)

a. Degree to which proposed objectives are clearly stated, realistic, measurable, time-phased, related to the purpose of this project, and regularly monitored and evaluated.

b. Degree to which applicant provides a narrative that includes a working outline of the planned needs assessment, survey instrument draft, final report draft outline, names of potential contacts to be interviewed for the research portion of the needs assessment, and a working outline of the strategic plan.

3. Organizational Capacity (20 points)

a. Degree to which the applicant provides evidence of the ability to carry out the proposed project and the extent to which the applicant documents (1) the capability to achieve objectives similar to those of this project, and (2) success in mobilizing leaders of African American faith communities to integrate HIV prevention education and services into faith communities.

b. Degree to which applicant demonstrates the use of established mechanisms for communicating HIV/AIDS prevention information to members of faith communities.

c. degree to which applicant has capacity to identify and develop effective prevention information networks and dissemination systems.

d. degree to which applicant describes the use of established networks of contacts and knowledge of U.S. faith-based institutions, people, and resources in order to identify people and programs domestically for technical assistance and capacity building in targeted LIFE countries.

4. Staffing Plan (20 points)

Extent to which professional personnel involved in this project are qualified, including evidence of past achievements relevant to this project.

5. Management and Evaluation of Program (20 points)

Degree to which the applicant documents the adequacy of plans for administering and evaluating the project.

6. Budget (not scored)

Extent to which the estimated cost of the project (the budget) is reasonable.

H. Other Requirements

Technical Reporting Requirements

Provide CDC with the original plus two copies of:

1. annual progress reports;

2. financial status report, no more than 90 days after the end of the budget period; and

3. final financial and performance reports, no more than 90 days after the end of the project period.

Send all reports to the Grants Management Specialist identified in the “Where to Obtain Additional Information” section of this announcement.

The following additional requirements are applicable to this program. For a complete description of each, see Attachment I in the application kit.

AR-4 HIV/AIDS Confidentiality Provisions

AR-9 Paperwork Reduction Act Requirements

AR-10 Smoke-Free Workplace Requirements

AR-12 Lobbying Restrictions

AR-14 Accounting System Requirements

I. Authority and Catalog of Federal Domestic Assistance Number

This program is authorized under section 317(k)(2) of the Public Health Service Act, 42 U.S.C. section 247b(k)(2). The Catalog of Federal Domestic Assistance number is 93.941, HIV Demonstration, Research, Public and Professional Education Projects.

J. Where To Obtain Additional Information

This and other CDC announcements can be found on the CDC home page Internet address—http://www.cdc.gov. Click on “Funding” then “Grants and Cooperative Agreements.”

To receive additional written information and to request an application kit, call 1-888-GRANTS (1-888 472-6874). You will be asked to leave your name and address and will be instructed to identify the Announcement number of interest.

If you have questions after reviewing the contents of all the documents, business management technical assistance may be obtained from: Julia L. Valentine, Grants Management Specialist, Centers for Disease Control and Prevention (CDC), Procurement and Grants Office, Room 3000, 2920 Brandywine Road, Mailstop E-15, Atlanta, GA 30341-4146, Telephone: (770) 488-2732, E-mail: jxv1@cdc.gov.

For program technical assistance, contact: Leo Weakland, Deputy Coordinator, Global AIDS Activity (GAA), National Center for HIV, STD, and TB Prevention, Centers for Disease Control and Prevention (CDC), 1600 Clifton Road, M/S E-07, Atlanta, GA 30333, Telephone number (404) 639-8016, Email address: lfw0@cdc.gov.

Dated: June 30, 2000.
Henry S. Cassell III,
Acting Director, Procurement and Grants Office, Centers for Disease Control and Prevention (CDC).

[FR Doc. 00-17179 Filed 7-6-00; 8:45 am]

BILLING CODE 4163-18-P